DEPARTMENT OF ENERGY

Federal Energy Regulatory Commission

Request for Comments on Potential Changes to the Upland Erosion Control, Revegetation and Maintenance Plan and the Wetland and Waterbody Construction and Mitigation Procedures

January 11, 2002.

The Office of Energy Projects (OEP) staff is in the process of reviewing the Upland Erosion Control, Revegetation and Maintenance Plan and the Wetland and Waterbody Construction and Mitigation Procedures referred to at 18 CFR 157.206(b)(3)(iv) of the Commission's regulations to see if there are appropriate modifications to be made at this time. As promised in Order 609, the staff is asking for public input on potential modifications.

This process of obtaining public input began at the Post-Certificate Environmental Compliance Seminar conducted in Houston on December 12 and 13, 2001. Additional input will be solicited at the subsequent sessions of this training course identified in our November 15, 2001 notice. However, in order to obtain the broadest public participation in this process, we are asking for comment outside of these training sessions as well.

We have posted a table on our Web site showing the changes that were identified for discussion at the December 12th session and we request your comments on whether each of the changes are appropriate, with discussion of your rationale. In addition, please describe any additional changes you believe might be appropriate. The table is at http://www.ferc.gov/gas/pptable.pdf.

To provide comments you may log on to the FERC Web site at www.ferc.gov, and follow the links to “Gas Industry Seminars,” “Online Registration,” and “Participant Recommendations” or go directly to www.ferc-envtraining.com and select “Participant Recommendations.”

C.B. Spencer,
Acting Secretary.

[FR Doc. 02-1235 Filed 1-16-02; 8:45 am]

BILLING CODE 6717-01-P